ENVIRONMENTAL PROTECTION AGENCY

[FRL-9152-4]

Science Advisory Board Staff Office; Request for Nominations of Experts for the SAB Arsenic Review Panel

AGENCY: Environmental Protection Agency (EPA).

ACTION: Notice request for nominations.

SUMMARY: The Science Advisory Board (SAB) Staff Office is requesting public nominations of experts to form an SAB panel to review EPA's Integrated Risk Information System (IRIS) assessment for inorganic arsenic (noncancer).

DATES: Nominations should be submitted by June 7, 2010 per instructions below.

FOR FURTHER INFORMATION CONTACT: Any member of the public wishing further information regarding this Request for Nominations may contact Dr. Sue Shallal, Designated Federal Officer (DFO), EPA Science Advisory Board (1400F), 1200 Pennsylvania Avenue, NW., Washington, DC 20460; via telephone/voice mail (202) 343-9977; by fax at (202) 233-0643; or via e-mail at shallal.suhair@epa.gov. General information concerning the EPA Science Advisory Board can be found on the EPA SAB Web site at http://www.epa.gov/sab.

SUPPLEMENTARY INFORMATION: EPA is revising an assessment for arsenic in support of EPA's Integrated Risk Information System (IRIS). The National Research Council (NRC) published reports on the health effects of arsenic in 1999 and 2001. Since 2001, information has been developed for dermal hyperpigmentation, keratosis, and epidemiology of inorganic arsenic that may impact EPA's 1988 values. The IRIS Program is preparing an assessment which will incorporate available noncancer health effects information for inorganic arsenic, as well as new risk assessment methods. ORD has requested that the SAB conduct the external peer review of its revised draft assessment.

The SAB was established by 42 U.S.C. 4365 to provide independent scientific and technical advice, consultation and recommendations to the EPA Administrator on the technical basis for Agency positions and regulations. The SAB Staff Office will form an expert panel to review ORD's draft IRIS Toxicological Review of Inorganic Arsenic (noncancer). The Arsenic Review Panel is being asked to comment on the scientific soundness of the Agency's draft assessment. The SAB panel will comply with the provisions of the Federal Advisory Committee Act (FACA) and all appropriate SAB procedural policies. Upon completion, the panel's report will be submitted to the chartered SAB for final approval for transmittal to the EPA Administrator.

Availability of the Review Materials: The EPA draft IRIS Toxicological Review of Inorganic Arsenic (noncancer) will be made available by ORD at the following URL http://epa.gov/ncea (under “Recent Additions”). Availability of the draft Toxicological Review will be announced in a separate Federal Register Notice. For questions concerning the review materials, please contact Dr. Janice S. Lee, at (919) 541-9458, or lee.janices@epa.gov.

Request for Nominations: The SAB Staff Office is requesting nominations of nationally recognized experts with expertise and research experience with inorganic arsenic in one or more of the following areas: Epidemiology; clinical medicine; dermatology; toxicology and mechanisms of action; toxicokinetics; and risk assessment and biostatistics.

Process and Deadline for Submitting Nominations: Any interested person or organization may nominate qualified individuals for possible service on the Arsenic Review Panel in the areas of expertise described above. Nominations should be submitted in electronic format (which is preferred over hard copy) following the instructions for “Nominating Experts to Advisory Panels and Ad Hoc Committees Being Formed” provided on the SAB Web site. The instructions can be accessed through the “Nomination of Experts” link on the blue navigational bar on the SAB Web site at http://www.epa.gov/sab. To receive full consideration, nominations should include all of the information requested.

EPA's SAB Staff Office requests: Contact information about the person making the nomination; contact information about the nominee; the disciplinary and specific areas of expertise of the nominee; the nominee's curriculum vita; sources of recent grants and/or contracts; and a biographical sketch of the nominee indicating current position, educational background, research activities, and recent service on other national advisory committees or national professional organizations.

Persons having questions about the nomination procedures, or who are unable to submit nominations through the SAB Web site, should contact Dr. Shallal, DFO, as indicated above in this notice. Nominations should be submitted in time to arrive no later than June 7, 2010. EPA values and welcomes diversity. In an effort to obtain nominations of diverse candidates, EPA encourages nominations of women and men of all racial and ethnic groups.

The EPA SAB Staff Office will acknowledge receipt of nominations. The names and biosketches of qualified nominees identified by respondents to the Federal Register notice and additional experts identified by the SAB Staff will be posted on the SAB Web site at http://www.epa.gov/sab. Public comments on this List of Candidates will be accepted for 21 calendar days. The public will be requested to provide relevant information or other documentation on nominees that the SAB Staff Office should consider in evaluating candidates.

For the EPA SAB Staff Office, a balanced subcommittee or review panel includes candidates who possess the necessary domains of knowledge, the relevant scientific perspectives (which, among other factors, may be influenced by work history and affiliation), and the collective breadth of experience to adequately address the charge. In establishing the Inorganic Arsenic (noncancer) Review Panel, the SAB Staff Office will consider public comments on the list of candidates, information provided by the candidates themselves, and background information independently gathered by the SAB Staff Office. Selection criteria to be used for panel membership include: (a) Scientific and/or technical expertise, knowledge and experience (primary factors); (b) availability and willingness to serve; (c) absence of financial conflicts of interest; (d) absence of an appearance of a lack of impartiality; (e) skills working in advisory committees and panels for the Panel as a whole, and (f) diversity of and balance among scientific expertise and viewpoints.

The SAB Staff Office's evaluation of an absence of financial conflicts of interest will include a review of the “Confidential Financial Disclosure Form for Special Government Employees Serving on Federal Advisory Committees at the U.S. Environmental Protection Agency” (EPA Form 3110-48). This confidential form allows Government officials to determine whether there is a statutory conflict between that person's public responsibilities (which includes membership on an EPA Federal advisory committee) and private interests and activities, or the appearance of a lack of impartiality, as defined by Federal regulation. The form may be viewed and downloaded from the following URL address http://www.epa.gov/sab/pdf/epaform3110-48.pdf.

The approved policy under which the EPA SAB Office selects subcommittees and review panels is described in the following document: Overview of the Panel Formation Process at the Environmental Protection Agency Science Advisory Board (EPA-SAB-EC-02-010), which is posted on the SAB Web site at http://www.epa.gov/sab/pdf/ec02010.pdf.

Dated: May 10, 2010.
Anthony Maciorowski,
Deputy Director, EPA Science Advisory Board Staff Office.

[FR Doc. 2010-11695 Filed 5-14-10; 8:45 am]

BILLING CODE 6560-50-P